DEPARTMENT OF HEALTH AND HUMAN SERVICES

National Advisory Committee on Children and Disasters; Meeting

AGENCY: Office of the Assistant Secretary for Strategic Preparedness and Response (ASPR), Department of Health and Human Services (HHS).

ACTION: Notice.

SUMMARY: The National Advisory Committee on Children and Disasters (NACCD or the Committee) is required by section 2811A of the PHS Act, as amended by the Pandemic and All Hazards Preparedness and Advancing Innovation Act (PAHPAIA) and governed by the provisions of the Federal Advisory Committee Act (FACA). The NACCD shall evaluate issues and programs and provide findings, advice, and recommendations to the Secretary of HHS and ASPR to support and enhance all-hazards public health and medical preparedness, response, and recovery aimed at meeting the unique needs of children and their families across the entire spectrum of their wellbeing. The Secretary of HHS has formally delegated authority to operate the NACCD to ASPR.

DATES: The NACCD will conduct a public meeting (virtual) on January 18, 2023 to discuss, finalize and vote on an initial set of recommendations to the HHS Secretary and ASPR regarding challenges, opportunities, and priorities for national public health and medical preparedness, response and recovery, specific to the needs of children and their families in disasters. A more detailed agenda and meeting registration link will be available on the NACCD meeting website https://www.phe.gov/Preparedness/legal/boards/naccd/Pages/default.aspx.

ADDRESSES: Members of the public may attend the meeting via a toll-free phone number or Zoom teleconference, which requires pre-registration. The meeting link to pre-register will be posted on https://www.phe.gov/Preparedness/legal/boards/naccd/Pages/default.aspx. Members of the public may provide written comments or submit questions for consideration to the NACCD at any time via email to NACCD@hhs.gov. Members of the public are also encouraged to provide comments after the meeting.

FOR FURTHER INFORMATION CONTACT: Zhoowan Jackson, NACCD Designated Federal Officer, Office of the Assistant Secretary for Strategic Preparedness and Response (ASPR), Department of Health and Human Services (HHS), Washington, DC; 202-205-4217, NACCD@hhs.gov.

SUPPLEMENTARY INFORMATION: The NACCD invites those who are involved in or represent a relevant industry, academia, health profession, health care consumer organization, or state, Tribal, territorial, or local government to request up to four minutes to address the committee live via Zoom. Requests to provide remarks to the NACCD during the public meeting must be sent to NACCD@hhs.gov at least 15 days prior to the meeting along with a brief description of the topic. We would specifically like to request inputs from the public on disaster behavioral health, COVID-19 pandemic lessons learned and other challenges, opportunities, and strategic priorities for national public health and medical preparedness, response and recovery specific to the needs of children and their families in disasters

Dawn O'Connell,
Assistant Secretary for Preparedness and Response.

[FR Doc. 2022-26561 Filed 12-6-22; 8:45 am]

BILLING CODE 4150-37-P